DEPARTMENT OF AGRICULTURE

Grain Inspection, Packers and Stockyards Administration

Designation for the Muncie, IN; Fremont, NE; Maryland; and West Lafayette, IN Areas

AGENCY: Grain Inspection, Packers and Stockyards Administration, USDA.

ACTION: Notice.

SUMMARY: GIPSA is announcing the designation of the following organizations to provide official services under the United States Grain Standards Act, as amended (USGSA): East Indiana Grain Inspection, Inc. (East Indiana); Fremont Grain Inspection Department, Inc. (Fremont); Maryland Department of Agriculture (Maryland); Enid Grain Inspection Company, Inc. (Enid); and Titus Grain Inspection, Inc. (Titus).

DATES: Effective Date: July 1, 2010.

ADDRESSES: Karen W. Guagliardo, Branch Chief, Review Branch, Compliance Division, GIPSA, USDA, STOP 3604, Room 1647-S, 1400 Independence Avenue, SW., Washington, DC 20250-3604.

FOR FURTHER INFORMATION CONTACT: Karen W. Guagliardo, 202-720-8262 or Karen.W.Guagliardo@usda.gov.

Read Applications: All applications and comments will be available for public inspection at the office above during regular business hours (7 CFR 1.27(c)).

SUPPLEMENTARY INFORMATION: In the September 4, 2009, Federal Register (74 FR 45803), GIPSA requested applications for designation to provide official services in the geographic areas presently serviced by the agencies named above. Applications were due by October 1, 2009.

East Indiana, Fremont, Maryland, and Titus were the sole applicants for designations to provide official services in these areas. As a result, GIPSA did not ask for additional comments.

GIPSA evaluated all available information regarding the designation criteria in section 7(f)(l) of the USGSA (7 U.S.C. 79(f)) and determined that East Indiana, Fremont, Maryland, and Titus are qualified to provide official services in the geographic areas specified in the September 4, 2009, Federal Register for which they applied. These designation actions to provide official services in the specified areas are effective July 1, 2010, and terminate on June 30, 2013.

Interested persons may obtain official services by calling the telephone numbers listed below:

Official agency | Headquarters location and telephone | Designation start | Designation end
East Indiana | Muncie, IN (765-289-1206) | 7/1/2010 | 6/30/2013
Fremont | Fremont, NE (402-721-5086) | 7/1/2010 | 6/30/2013
| Additonal Location: Denison, IA
Maryland | Annapolis, MD (410-841-2750) | 7/1/2010 | 6/30/2013
Titus | West Lafayette, IN (765-497-2202) | 7/1/2010 | 6/30/2013

Section 7(f)(1) of the USGSA authorizes GIPSA's Administrator to designate a qualified applicant to provide official services in a specified area after determining that the applicant is better able than any other applicant to provide such official services (7 U.S.C. 79 (f)(1)).

Under section 7(g)(1) of the USGSA, designations of official agencies are effective for 3 years unless terminated by the Secretary; however, designations may be renewed according to the criteria and procedures prescribed in section 7(f) of the Act.

Authority: 7 U.S.C. 71-87k.

Marianne Plaus,
Acting Administrator, Grain Inspection, Packers and Stockyards Administration.

[FR Doc. 2010-12382 Filed 5-24-10; 8:45 am]

BILLING CODE 3410-KD-P